DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based on the Petitioner's statements, comments and information submitted by interested persons, and a field investigation of the conditions at the mine. MSHA, as designee of the Secretary, has granted or partially granted the requests for modification listed below. In some instances, the decisions are conditioned upon compliance with stipulations stated in the decision. The term FR Notice appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at 202-693-9447.

Dated in Arlington, Virginia this 4th day of August, 2004.
Marvin W. Nichols, Jr.,
Director, Office of Standards, Regulations, and Variances.

Affirmative Decisions on Petitions for Modification

Docket No.: M-2001-122-C.

FR Notice: 67 FR 6754.

Petitioner: Pine Ridge Coal Company.

Regulation Affected: 30 CFR 75.503 (30 CFR 18.35).

Summary of Findings: Petitioner's proposal is to use trailing cables not to exceed 900 feet to supply its shuttle cars, roof bolters, and mobile roof supports. On July 30, 2002, the petitioner filed an amended petition requesting that shuttle cars be deleted from this petition. The trailing cable(s) would not be smaller than No. 2 AWG for roof bolter(s), and not smaller than No. 4 AWG for mobile roof support(s), and other safeguards would be in place, as outlined in the amended petition. This is considered an acceptable alternative method for trailing cables that supply 480-volt, three-phase, alternating current to roof bolters and mobile roof supports at the Big Mountain No. 16 Mine. MSHA grants the petition for modification for the Big Mountain No. 16 Mine with conditions.

Docket No.: M-2002-074-C.

FR Notice: 67 FR 63166.

Petitioner: Monterey Coal Company.

Regulation Affected: 30 CFR 75.503 (30 CFR 18.35).

Summary of Findings: Petitioner's proposal is to install a Hubbel/Ensign Electric Division Class 1401 Permissible Distribution Box so that two Fletcher Model CDR-15 slim line roof bolters can be used near the end of the longwall panel for additional support of the face when transferring equipment to the next panel. The distribution box will have a maximum of 750 feet of No. 4/0 AWG G-GC trailing cable extending from the power center located outby; and roof bolters will be equipped with No. 2 AWG G-GC portable cables with 1,000 feet of the cable extended across the face from the distribution box. The petitioner's previous petition for modification, docket number M-94-131-C, was granted to extend the trailing cables to the Fletcher roof bolters to 1,200 feet with short circuit protection set at 800 Amps Maximum and a longwall panel width of 750 feet Maximum. The petitioner assert that since the granting of its previous petition, the longwall panel has been increased to 1,100 feet Maximum, and is approved and accepted by the MSHA Approval and Certification Center under 2G-3955A-0. This is considered an acceptable alternative method at the Monterey Coal Company No.1 Mine for trailing cables that apply only to 600-volts to Hubble/Ensign Electric Division Class 1401 permissible distribution boxes, X/P-1733-3, and trailing cables supplying 600-volts to the Fletcher roof bolters, Model CDR-15, located on the longwall recovery. MSHA grants the petition for modification for the No. 1 Mine with conditions.

Docket No.: M-2002-077-C.

FR Notice: 67 FR 63166.

Petitioner: Lone Mountain Processing, Inc.

Regulation Affected: 30 CFR 75.1002.

Summary of Findings: Petitioner's proposal is to use a 2,400-volt power center to power a continuous miner with high-voltage trailing cable inby the last open crosscut and within 150 feet of pillar workings. This is considered an acceptable alternative method for the Huff Creek Mine No. 1. MSHA grants the petition for modification for the use of the 2,400 high-voltage continuous miner(s) at the Huff Creek Mine No. 1 with conditions.

Docket No.: M-2002-078-C.

FR Notice: 67 FR 63166.

Petitioner: Lone Mountain Processing, Inc.

Regulation Affected: 30 CFR 75.1002.

Summary of Findings: Petitioner's proposal is to use a 2,400-volt power center to power a continuous miner with high-voltage trailing cable inby the last open crosscut and within 150 feet of pillar workings. This is considered an acceptable alternative method for the Darby Fork Mine No. 1. MSHA grants the petition for modification for the use of the 2,400 high-voltage continuous miner(s) at the Darby Fork Mine No. 1 with conditions.

Docket No.: M-2003-044-C.

FR Notice: 68 FR 38393.

Petitioner: Nowacki Coal Company.

Regulation Affected: 30 CFR 75.360.

Summary of Findings: Petitioner's proposal is to conduct a visual examination of each seal for physical damage from the slope gunboat during the pre-shift examination after an air quantity reading is taken just inby the intake portal. The petitioner further proposes to take an additional reading for methane, carbon dioxide, and oxygen deficiency at intake air split locations just off the slope in the gangway portion of the working section and record the results of these reading in a book that will be maintained on the surface of the mine and made available to all interested parties. This is considered an acceptable alternative method for the Nowacki Coal Company Slope Mine. MSHA grants the petition for modification to allow evaluation of the seals off the shaft, from the gunboat in the intake air haulage slope of the Nowacki Coal Company Slope Mine with conditions.

Docket No.: M-2003-045-C.

FR Notice: 68 FR 38393.

Petitioner: Nowacki Coal Company.

Regulation Affected: 30 CFR 75.364(b)(1), (b)(4), and (b)(5).

Summary of Findings: Petitioner's proposal is to (i) Preshift examine the intake haulage slope and primary escapeway areas from the gunboat/slope car with an alternative air quality evaluation at the section's intake gangway level; (ii) travel and thoroughly examine these areas for hazardous conditions once a month; and (iii) have the examiner place the dates, times, and his/her initials at appropriate locations and maintain records of the examinations on the surface of the mine. MSHA grants the petition for modification of 30 CFR 75.364(b)(4) for the petitioner to conduct examinations of the seals along the return and bleeder air courses from the ladder on a weekly basis instead of on a monthly basis as requested for the Nowacki Slope Mine with conditions.

Docket No.: M-2003-049-C.

FR Notice: 68 FR 40701.

Petitioner: Drummond Company, Inc.

Regulation Affected: 30 CFR 75.507.

Summary of Findings: Petitioner's proposal is to use 4,160-volt, three-phase, alternating current deepwell submersible pumps in boreholes in the Shoal Creek Mine. This is considered an acceptable alternative method for the Mine. MSHA grants the petition for modification for use at the Shoal Creek Mine with conditions.

Docket No.: M-2003-054-C.

FR Notice: 68 FR 47945.

Petitioner: Jim Walter Resources, Inc.

Regulation Affected: 30 CFR 75.503 (Schedule 2G, 30 CFR 18.35).

Summary of Findings: Petitioner's proposal is to use extended length cables to power 2,400-volt continuous mining machines. This is considered an acceptable alternative method to apply only to trailing cables that supply 2,400-volt, three-phase, alternating current to continuous mining machines at the Jim Walter Resources, Inc., No. 4 Mine. The trailing cables will have a 90-degree insulation rating. MSHA grants the petition for modification for the Jim Walter Resources, Inc., No. 4 Mine with conditions.

Docket No.: M-2003-055-C.

FR Notice: 68 FR 47945.

Petitioner: Jim Walter Resources, Inc.

Regulation Affected: 30 CFR 75.1002.

Summary of Findings: Petitioner's proposal is to use 2,400-volt trailing cable to power a continuous miner in by the last open crosscut and within 150 feet of pillar workings. This is considered an acceptable alternative method for the Jim Walter Resources, Inc., No. 4 Mine. MSHA grants the petition for modification for the Jim Walter Resources, Inc., No. 4 Mine with conditions.

Docket No.: M-2003-073-C.

FR Notice: 68 FR 61701.

Petitioner: Bowie Resources, Ltd.

Regulation Affected: 30 CFR 75.1909(b)(6).

Summary of Findings: Petitioner's proposal is to use an alternative method in lieu of using front wheel brakes on the Caterpillar 120 G Diesel Roadbuilder Serial No. 4HDO1844 used at the Bowie #3 Mine, and limit the speed of the grader to 10 to 12 miles per hour (mph) by permanently blocking higher gear ratios, and train the grader operators to drop the grader blade to provide additional stopping capability in emergency situations. This is considered an acceptable alternative method for the Bowie #3 Mine. MSHA grants the petition for modification for use of the Caterpillar 120 G (Serial No. 4HDO1844), Six-wheel diesel graders (Roadbuilder) at the Bowie #3 Mine with conditions.

Docket No.: M-2003-074-C.

FR Notice: 68 FR 61701.

Petitioner: Newtown Energy Incorporated.

Regulation Affected: 30 CFR 75.1002.

Summary of Findings: Petitioner's proposal is to operate a 2,400-volt Joy 12CM27 continuous mining machine at the Coalburg #1 Mine. This is considered an acceptable alternative method for the Coalburg #1 Mine. MSHA grants the petition for modification for the Coalburg #1 Mine with conditions.

Docket No.: M-2003-004-M.

FR Notice: 68 FR 57933.

Petitioner: Dynatec Mining Corporation.

Regulation Affected: 30 CFR 57.22606(a) and (c).

Summary of Findings: Petitioner's proposal is to use electric detonators to initiate blasts but requests modification of the existing standard to allow the use of nonel detonators to detonate the explosives in the blast holes. This is considered an acceptable alternative method for the FMC No. 9 Ventilation Shaft Project. MSHA grants the petition for modification for the FMC No. 9 Ventilation Shaft Project Mine with conditions.

[FR Doc. 04-18359 Filed 8-10-04; 8:45 am]

BILLING CODE 4510-43-P